DEPARTMENT OF THE INTERIOR

Bureau of Land Management

[LLMT924000-L14400000-ET0000; SDM-112598]

Notice of Application for Withdrawal and Notification of Public Meeting, Pactola Reservoir—Rapid Creek Watershed; South Dakota

AGENCY: Bureau of Land Management, Interior.

ACTION: Notice of withdrawal application.

SUMMARY: The United States Forest Service (USFS) has filed an application with the Bureau of Land Management (BLM) requesting that the Secretary of the Interior withdraw 20,574 acres of National Forest System (NFS) lands in Pennington County, South Dakota, from settlement, sale, location, or entry under the public land laws; location and entry under the United States mining laws; and leasing under the mineral and geothermal leasing laws for 20 years, subject to valid existing rights, to protect the cultural and natural resources of the Pactola Reservoir—Rapid Creek Watershed, including municipal water for Rapid City and Ellsworth Air Force Base, from the adverse impacts of minerals exploration and development. Publication of this notice segregates the lands from the laws specified for up to 2 years, subject to valid existing rights. This notice initiates a 90-day public comment period and announces a public meeting regarding the USFS application.

DATES: Comments must be received by June 20, 2023. The USFS and the BLM will hold a joint public meeting on Wednesday, April 26, 2023, 4-8 p.m., Mountain Time (MT), at the Best Western Ramkota Hotel, Conference Hall, 2111 N. LaCrosse Street, Rapid City, South Dakota 57701.

ADDRESSES: Written comments should be submitted to: Black Hills National Forest via https://cara.fs2c.usda.gov/Public/CommentInput?project=NP-3479. Information regarding the proposed withdrawal will be available at the Black Hills National Forest, Forest Supervisor's Office, 1019 N. 5th Street, Custer, South Dakota 57730 and at the BLM Montana/Dakotas State Office, 5001 Southgate Drive, Billings, Montana 59101. Comments sent by email will not be accepted.

FOR FURTHER INFORMATION CONTACT: Bryan Karchut, Forest Supervisor, Black Hills National Forest, telephone (605) 515-9861, email: bryan.karchut@usda.gov, or you may contact the BLM office at the address noted earlier. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal application includes the following NFS lands located in the Black Hills National Forest:

Black Hills Meridian, South Dakota

T. 1 N., R. 4 E.,

Sec. 1;

Sec. 2, that part lying easterly of the Pactola Reservoir—Rapid Creek subwatershed boundary;

Sec. 11, that part lying easterly of the Pactola Reservoir—Rapid Creek subwatershed boundary;

Secs. 12 and 13;

Sec. 14, that part lying easterly of the Pactola Reservoir—Rapid Creek subwatershed boundary;

Sec. 23, that part lying northeasterly of Pactola Reservoir—Rapid Creek subwatershed boundary;

Sec. 24, that part lying northeasterly of Pactola Reservoir—Rapid Creek subwatershed boundary;

Sec. 25, that part lying northeasterly of Pactola Reservoir—Rapid Creek subwatershed boundary.

T. 2 N., R. 4 E.,

Sec. 13, lots 1 thru 5, SW1/4SW1/4, and SE1/4, except Tract A of H.E.S. No. 241, that part lying southerly of Pactola Reservoir—Rapid Creek subwatershed boundary;

Sec. 14, lot 2, SW1/4, W1/2SE1/4, and SE1/4SE1/4, that part lying southeasterly of Pactola Reservoir—Rapid Creek subwatershed boundary;

Sec. 22, SE1/4SE1/4, those portions lying southerly and easterly of Pactola Reservoir—Rapid Creek subwatershed boundary;

Sec. 23, that part lying easterly of Pactola Reservoir—Rapid Creek subwatershed boundary;

Sec. 24, except Tract A of H.E.S. No. 241;

Sec. 25, except M.S. No. 1948 and M.S. No. 2016;

Sec. 26, that part lying easterly of Pactola Reservoir—Rapid Creek subwatershed boundary;

Sec. 27, those portions lying easterly of Pactola Reservoir—Rapid Creek subwatershed boundary;

Sec. 34, lots 1, 4, 6, and 9, E1/2NE1/4, NW1/4NE1/4, and S1/2SE1/4SE1/4, that part lying easterly of Pactola Reservoir—Rapid Creek subwatershed boundary;

Sec. 35, except M.S. No. 2047, that part lying northeasterly of Pactola Reservoir—Rapid Creek subwatershed boundary;

Sec. 36, except M.S. No. 1948;

M.S. No. 1019, that part lying southerly of Pactola Reservoir—Rapid Creek subwatershed boundary;

M.S. No. 2047.

T. 1 N., R. 5 E.,

Sec. 2, that part lying southwesterly of Pactola Reservoir—Rapid Creek subwatershed boundary;

Secs. 3 thru 7;

Sec. 8, except M.S. No. 1918;

Secs. 9 and 10;

Sec. 11, that part lying northwesterly of the Pactola Reservoir—Rapid Creek subwatershed boundary;

Sec. 14, that part lying northwesterly of the Pactola Reservoir—Rapid Creek subwatershed boundary;

Sec. 15, N1/2, N1/2SW1/4, N1/2SE1/4, and NE1/4NE1/4SW1/4SE1/4, that part lying northerly of the Pactola Reservoir—Rapid Creek subwatershed boundary;

Sec. 16, that part lying northwesterly of the Pactola Reservoir—Rapid Creek subwatershed boundary;

Sec. 17, except M.S. Nos. 1916 and 1918;

Sec. 18, N1/2, NE1/4SW1/4, and SE1/4;

Sec. 19, NE1/4, NW1/4NW1/4, S1/2NW1/4, S1/2, that part lying northwesterly of the Pactola Reservoir—Rapid Creek subwatershed boundary;

Sec. 20, except M.S. No. 1916, that part lying northerly of the Pactola Reservoir—Rapid Creek subwatershed boundary;

Sec. 21, NW1/4, that part lying northwesterly of the Pactola Reservoir—Rapid Creek subwatershed boundary;

Sec. 30, W1/2, that part lying northwesterly of the Pactola Reservoir—Rapid Creek subwatershed boundary.

H.E.S. No. 106;

H.E.S. No. 599;

M.S. No. 891.

T. 2 N., R. 5 E.,

Sec. 18, that part lying southerly of the Pactola Reservoir—Rapid Creek subwatershed boundary;

Sec. 19, that part lying southwesterly of the Pactola Reservoir—Rapid Creek subwatershed boundary;

Sec. 20, SW1/4, that part lying southwesterly of the Pactola Reservoir—Rapid Creek subwatershed boundary;

Sec. 28, SW1/4, that part lying southerly of the Pactola Reservoir—Rapid Creek subwatershed boundary;

Sec. 29, that part lying westerly of the Pactola Reservoir—Rapid Creek subwatershed boundary;

Sec. 30, except M.S. No. 1948 and M.S. No. 2016;

Sec. 31, lots 5 and 6, lots 10 thru 19, NE1/4, E1/2NW1/4, NW1/4NE1/4SE1/4, W1/2SE1/4SE1/4SE1/4, and those portions of M.S. No. 504 further described as Town of Silver City, Blocks A, B, C, D, and E, lots 3 thru 16 and lots 23 thru 32 of Block 9, lots 4 and 5, lots 12 thru 15, lots 27 thru 30 of Block 12, and Blocks 19 and 20;

Sec. 32, except M.S. No. 2040, that part lying southwesterly of the Pactola Reservoir—Rapid Creek subwatershed boundary;

Sec. 33, that part lying southerly of the Pactola Reservoir—Rapid Creek subwatershed boundary;

Sec. 34, that part lying southerly of the Pactola Reservoir—Rapid Creek subwatershed boundary;

Sec. 35, those portions lying westerly of the Pactola Reservoir—Rapid Creek subwatershed boundary;

M.S. No 2040, except W1/2SE1/4SE1/4SE1/4 of sec. 31.

The Pactola Reservoir—Rapid Creek subwatershed boundary described within this land description was derived from GIS and used for convenience in computing acreage. This subwatershed is also known as Hydrological Unit Code (HUC) 101201100110. This land description intends to include all public lands administered by the USFS within this subwatershed. The actual boundary is intended to be the location of said subwatershed as it exists on the ground.

The areas described aggregate approximately 20,574 acres.

The purpose for the withdrawal requested by the USFS is to protect the cultural and natural resources of the Pactola Reservoir—Rapid Creek Watershed, including municipal water for Rapid City and Ellsworth Air Force Base, from the adverse impacts of minerals exploration and development.

The use of a right-of-way, interagency agreement, or cooperative agreement would not provide adequate protection of cultural and natural resources.

No additional water rights will be needed to fulfill the purpose of the requested withdrawal.

There are no suitable alternative sites, as the described lands contain the resource values that need protection.

Before including your address, phone number, email address, or other personal identifying information in your comment, you should be aware that your entire comment, including your personal identifying information, may be made publicly available at any time. While you can ask us in your comment to withhold your personal identifying information from public review, we cannot guarantee that we will be able to do so.

Notice is hereby given that the USFS and the BLM will hold a joint public meeting in connection with the withdrawal application on Wednesday, April 26, 2023, from 4-8 p.m. MT, at the Best Western Ramkota Hotel, Conference Hall, 2111 N. LaCrosse St., Rapid City, SD 57701. The USFS will publish a notice of the time and place in a local newspaper at least 30 days before the scheduled date of the meeting. During the 90-day comment period, the BLM and USFS will hold additional meetings in other areas of the State, notices of which will be provided in local newspapers or on agency websites.

For a period until March 21, 2025, the NFS lands described earlier will be segregated from settlement, sale, location, or entry under the public land laws, location and entry under the United States mining laws, and leasing under the mineral and geothermal leasing laws, subject to valid existing rights, unless the application is denied or canceled, or the withdrawal is approved prior to that date.

Licenses, permits, cooperative agreements, or discretionary land use authorizations of a temporary nature may be allowed with the approval of the authorized officer of the USFS during the temporary segregation period if they would comply with applicable USFS land use plans for public lands and NFS lands located within the requested withdrawal boundary.

The application will be processed in accordance with the regulations set forth in 43 CFR part 2300.

(Authority: 43 U.S.C. 1714)

Kimberly O. Prill,
Acting Montana/Dakotas State Director.

[FR Doc. 2023-05659 Filed 3-20-23; 8:45 am]

BILLING CODE 3411-15-P